DEPARTMENT OF VETERANS AFFAIRS

Advisory Committee on Minority Veterans

Notice of Meeting

The Department of Veterans Affairs (VA) gives notice under the Public Law 92-463 (Federal Advisory Committee Act) that a meeting of the Advisory Committee on Minority Veterans will be held from February 28 to March 4, 2005 in Puerto Rico and the U.S. Virgin Islands at various sites. The meeting is open to the public.

The purpose of the Committee is to advise the Secretary on the administration of VA benefits and services to minority veterans, to assess the needs of minority veterans and to evaluate whether VA compensation, medical and rehabilitation services, outreach, and other programs are meeting those needs. The Committee will make recommendations to the Secretary regarding such activities.

The Committee will be conducting concurrent tours of Puerto Rico and the U.S. Virgin Islands February 28 to March 2, 2005. Town hall meetings will be held at the following times and locations:

February 28, 2005 from 7-9 p.m.

Puerto Rico: Utuado—Town Government Hall

U.S. Virgin Islands: Christiansted, St. Croix—American Legion Hall

March 1, 2005 from 7-9 p.m.

Puerto Rico: Juana Diaz, State Veterans Home

U.S. Virgin Islands: Charlotte Amalie, St. Thomas—American Legion Hall

The Committee will conduct panel hearings at the San Juan Marriott Resort Hotel, 1309 Ashford Avenue, San Juan, Puerto Rico on Wednesday, March 2, 2005 and Thursday, March 3, 2005. The hearings will begin at 1 p.m. on Wednesday and 11 a.m. on Thursday. Presenters will include the Director, Puerto Rican Public Advocate for Veterans Affairs; the Director, VA Medical Center; Director, VA Regional Office and the Director, Puerto Rico National Cemetery.

The Committee will accept written comments from interested parties on issues outlined in the meeting agenda, as well as other issues affecting minority veterans. Such comments should be referred to the Committee at the following address: Advisory Committee on Minority Veterans, Center for Minority Veterans (OOM), U.S. Department of Veterans Affairs, 810 Vermont Avenue, NW., Washington, DC 20420.

For additional information about the meeting, please contact Ms. Elizabeth Olmo at (202) 273-6708.

Dated: February 7, 2005.
By Direction of the Secretary.
E. Phillip Riggin,
Committee Management Officer.

[FR Doc. 05-2910 Filed 2-14-05; 8:45 am]

BILLING CODE 8320-01-M